FEDERAL RETIREMENT THRIFT INVESTMENT BOARD

Sunshine Act Meetings

TIME AND DATE: July 23, 2012, 9:00 a.m. (Eastern Time).

PLACE: 10th Floor Training Room, 77 K Street, NE., Washington, DC 20002.

STATUS: Parts will be open to the public and parts will be closed to the public.

MATTERS TO BE CONSIDERED:

Parts Open to the Public

1. Approval of the Minutes of the June 25, 2012 Board Member Meeting.

2. Thrift Savings Plan Activity Report by the Executive Director.

a. Monthly Participant Activity Report.

b. Legislative Report.

3. Quarterly Reports.

a. Investment Policy Report.

b. Vendor Financial Status Report.

4. Risk Management Overview.

5. Benefits Overview.

6. Contract Selection Criteria Review.

7. 2013 Board Meeting Calendar.

Parts Closed to the Public

8. Procurement.

CONTACT PERSON FOR MORE INFORMATION: Kimberly Weaver, Director, Office of External Affairs, (202) 942-1640.

Dated: July 16, 2012.
James B. Petrick,
Secretary, Federal Retirement Thrift Investment Board.

[FR Doc. 2012-17624 Filed 7-16-12; 4:15 pm]

BILLING CODE 6760-01-P